ENVIRONMENTAL PROTECTION AGENCY

[EPA-HQ-OPP-2010-0096; FRL-8811-6]

Pesticide Products; Registration Applications

AGENCY: Environmental Protection Agency (EPA).

ACTION: Notice.

SUMMARY: EPA has received applications to register pesticide products containing active ingredients not included in any previously registered pesticide products. Pursuant to the provisions of section 3(c)(4) of the Federal Insecticide, Fungicide, and Rodenticide Act (FIFRA), EPA is hereby providing notice of receipt and opportunity to comment on these applications.

DATES: Comments must be received on or before April 9, 2010.

ADDRESSES: Submit your comments, identified by docket identification (ID) number and the File Symbol(s) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket Identification (ID) number and the File Symbol(s) for the application(s) of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The Regulatory Action Leader, Biopesticides and Pollution Prevention Division (7511P), listed in the following table:

Regulatory Action Leader | Telephone Number and E-mail Address | Mailing Address | File Symbol(s)
Driss Benmhend | (703) 308-9525 benmhend.driss@epa.gov | Biopesticides and Pollution Prevention Division (7511P) Office of Pesticide Programs Environmental Protection Agency 1200 Pennsylvania Ave., NW. Washington, DC 20460-0001 | 5481-LAI 5481-LAO 5481-LTN 5481-LTR
Susanne Cerrelli | (703) 308-8077 cerrelli.susanne@epa.gov | Do. | 86174-E 86174-G 86174-R 86174-U
Cheryl Greene | (703) 308-0352 greene.cheryl@epa.gov | Do. | 86865-R
Denise Greenway | (703) 308-8263 greenway.denise@epa.gov | Do. | 70051-RNL 84888-E 84888-R
Anna Gross | (703) 305-5614 gross.anna@epa.gov | Do. | 67986-A
Jeannine Kausch | (703) 347-8920 kausch.jeannine@epa.gov | Do. | 68539-I 68539-O 68539-RN 81179-E 84059-O 84059-RN
Kathleen Martin | (703) 308-2857 martin.kathleen@epa.gov | Do. | 239-ETNE 239-ETNG 239-ETNU 73314-A 73314-T
Chris Pfeifer | (703) 308-0031 pfeifer.chris@epa.gov | Do. | 83028-RN
Ann Sibold | (703) 305-6502 sibold.ann@epa.gov | Do. | 84059-RR
Menyon Adams | (703) 347-8496 adams.menyon@epa.gov | Do. | 80286-RA 80286-RT

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person associated with the File Symbol of interest and listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date, and page number). If you are commenting on a docket that addresses multiple products, please indicate to which File Symbol(s) your comment applies.

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA received applications to register pesticide products containing active ingredients not included in any previously registered products. Pursuant to the provision of section 3(c)(4) of FIFRA, EPA is hereby providing notice of receipt and opportunity to comment on these applications. Notice of receipts of these applications does not imply a decision by the Agency on the applications.

1. File Symbol: 239-ETNE. Docket Number: EPA-HQ-OPP-2010-0094. Applicant: OMC Consulting, 828 Tanglewood Lane, East Lansing, MI 48823 (on behalf of The Scotts Company LLC, d/b/a The Ortho Group, P.O. Box 190, Marysville, OH 43040). Product Name: Phoma Tech. Active Ingredient: Phoma macrostoma strain 94-44B at 92%. Proposed Classification/Use: Manufacturing-use product. (K. Martin).

2. File Symbol: 239-ETNG. Docket Number: EPA-HQ-OPP-2010-0094. Applicant: OMC Consulting, 828 Tanglewood Lane, East Lansing, MI 48823 (on behalf of The Scotts Company LLC, d/b/a The Ortho Group, P.O. Box 190, Marysville, OH 43040). Product Name: Phoma H. Active Ingredient: Phoma macrostoma strain 94-44B at 92%. Proposed Classification/Use: Terrestrial (nonfood, residential outdoor). (K. Martin).

3. File Symbol: 239-ETNU. Docket Number: EPA-HQ-OPP-2010-0094. Applicant: OMC Consulting, 828 Tanglewood Lane, East Lansing, MI 48823 (on behalf of The Scotts Company LLC, d/b/a The Ortho Group, P.O. Box 190, Marysville, OH 43040). Product Name: Phoma P. Active Ingredient: Phoma macrostoma strain 94-44B at 92%. Proposed Classification/Use: Terrestrial (nonfood, residential outdoor, nurseries, greenhouses). (K. Martin).

4. File Symbol: 5481-LAI. Docket Number: EPA-HQ-OPP-2010-0064. Applicant: Technology Sciences Group Incorporated, 1150 18th Street NW., Suite 1000, Washington, DC 20036 (on behalf of AMVAC Chemical Corporation, 4695 Macarthur Court, Suite 1250, Newport Beach, CA 92660-1706). Product Name: AMV-1018 Technical. Active Ingredient: 3-decen-2-one at 98%. Proposed Classification/Use: Manufacturing-use product. (D. Benmhend).

5. File Symbol: 5481-LAO. Docket Number: EPA-HQ-OPP-2010-0064. Applicant: Technology Sciences Group Incorporated, 1150 18th Street NW., Suite 1000, Washington, DC 20036 (on behalf of AMVAC Chemical Corporation, 4695 Macarthur Court, Suite 1250, Newport Beach, CA 92660-1706). Product Name: AMV-1018 67.5 EC. Active Ingredient: 3-decen-2-one at 67.5%. Proposed Classification/Use: Potato sprout inhibitor for indoor use only. (D. Benmhend).

6. File Symbol: 5481-LTN. Docket Number: EPA-HQ-OPP-2010-0064. Applicant: Technology Sciences Group Incorporated, 1150 18th Street NW., Suite 1000, Washington, DC 20036 (on behalf of AMVAC Chemical Corporation, 4695 Macarthur Court, Suite 1250, Newport Beach, CA 92660-1706). Product Name: AMV-1018 90 EC. Active Ingredient: 3-decen-2-one at 90%. Proposed Classification/Use: Potato sprout inhibitor for indoor use only. (D. Benmhend).

7. File Symbol: 5481-LTR. Docket Number: EPA-HQ-OPP-2010-0064. Applicant: Technology Sciences Group Incorporated, 1150 18th Street NW., Suite 1000, Washington, DC 20036 (on behalf of AMVAC Chemical Corporation, 4695 Macarthur Court, Suite 1250, Newport Beach, CA 92660-1706). Product Name: AMV-1018 EP. Active Ingredient: 3-decen-2-one at 98%. Proposed Classification/Use: Potato sprout inhibitor for indoor use only. (D. Benmhend).

8. File Symbol: 67986-A. Docket Number: EPA-HQ-OPP-2009-0539. Applicant: Interregional Research Project Number 4 (IR-4), Rutgers University, 500 College Road East, Suite 201W, Princeton, NJ 08540 (on behalf of OmniLytics, 5450 W. Wiley Post Way, Salt Lake City, UT 84116). Product Name: AgriPhage CMM. Active Ingredient: Bacteriophage of Clavibacter michiganensis subsp. michiganensis at 0.05%. Proposed Classification/Use: Bactericide for use against canker on tomato. (A. Gross).

9. File Symbol: 68539-I. Docket Number: EPA-HQ-OPP-2010-0057. Applicant: Technology Sciences Group Incorporated, 1150 18th Street NW., Suite 1000, Washington, DC 20036 (on behalf of BioWorks Incorporated, 100 Rawson Road, Suite 205, Victor, NY 14564). Product Name: G-41 Technical. Active Ingredient: Trichoderma virens strain G-41 at 12.1%. Proposed Classification/Use: Manufacturing-use product. (J. Kausch).

10. File Symbol: 68539-O. Docket Number: EPA-HQ-OPP-2010-0057. Applicant: Technology Sciences Group Incorporated, 1150 18th Street NW., Suite 1000, Washington, DC 20036 (on behalf of BioWorks Incorporated, 100 Rawson Road, Suite 205, Victor, NY 14564). Product Name: BW240 WP. Active Ingredient: Trichoderma virens strain G-41 at 0.61%. Proposed Classification/Use: Preventative fungicide for control of disease organisms such as Pythium, Phytophthora, Rhizoctonia, and Fusarium on various crops. (J. Kausch)

11. File Symbol: 68539-RN. Docket Number: EPA-HQ-OPP-2010-0057. Applicant: Technology Sciences Group Incorporated, 1150 18th Street NW., Suite 1000, Washington, DC 20036 (on behalf of BioWorks Incorporated, 100 Rawson Road, Suite 205, Victor, NY 14564). Product Name: BW240 G. Active Ingredient: Trichoderma virens strain G-41 at 0.61%. Proposed Classification/Use: Preventative fungicide for control of disease organisms such as Pythium, Phytophthora, Rhizoctonia, and Fusarium on various crops. (J. Kausch).

12. File Symbol: 70051-RNL. Docket Number: EPA-HQ-OPP-2010-0103. Applicant: Certis USA LLC, 9145 Guilford Road, Suite 175, Columbia, MD 21046. Product Name: CX-9090. Active Ingredient: Bacillus subtilis strain CX-9060 at 25.0%. Proposed Classification/Use: For the control or suppression of fungal and bacterial diseases of horticultural crops. (D. Greenway).

13. File Symbol: 73314-A. Docket Number: EPA-HQ-OPP-2010-0093. Applicant: Technology Sciences Group Incorporated, 1150 18th Street NW., Suite 1000, Washington, DC 20036 (on behalf of Natural Industries Incorporated, 6223 Theall Road, Houston, TX 77066). Product Name: NoFly(tm). Active Ingredient: Paecilomyces fumosoroseus strain FE 9901 at 18%. Proposed Classification/Use: Greenhouse (only) for control of whiteflies, aphids, thrips, psyllids, mealybugs, leaf hoppers, plant bugs, weevils, grasshoppers, mormon crickets, locust, and beetles on all greenhouse and nursery crops including ornamentals, vegetables, and herbs. (K. Martin).

14. File Symbol: 73314-T. Docket Number: EPA-HQ-OPP-2010-0093. Applicant: Technology Sciences Group Incorporated, 1150 18th Street NW., Suite 1000, Washington, DC 20036 (on behalf of Natural Industries Incorporated, 6223 Theall Road, Houston, TX 77066). Product Name: NoFly(tm) Technical. Active Ingredient: Paecilomyces fumosoroseus strain FE 9901 at 69%. Proposed Classification/Use: Manufacturing-use product. (K. Martin).

15. File Symbol: 81179-E. Docket Number: EPA-HQ-OPP-2010-0056. Applicant: Interregional Research Project Number 4 (IR-4), Rutgers University, 500 College Road East, Suite 201W, Princeton, NJ 08540 (on behalf of BioProdex Incorporated, 8520 NW 2 Place, Gainesville, FL 32607-1423). Product Name: SolviNix. Active Ingredient: Tobacco Mild Green Mosaic Tobamovirus at 3%. Proposed Classification/Use: Post-emergent herbicide for control of tropical soda apple (Solanum viarum) in citrus, forestry, grass pastures, rangeland, sod-production fields, roadsides, sugarcane, temperate fruits and nuts, tropical fruits and nuts, turf, Conservation Reserve Program and other natural areas, and rights-of-way. (J. Kausch).

16. File Symbol: 83028-RN. Docket Number: EPA-HQ-OPP-2010-0080. Applicant: NCA Biotech Incorporated, 3406 Pomona Boulevard, Pomona, CA 91768. Product Name: Technical Salicylic Acid. Active Ingredient: Salicylic Acid at 98.7%. Proposed Classification/Use: Manufacturing-use product for formulation into plant growth regulator end-use products. (J. Pfeifer).

17. File Symbol: 84059-O. Docket Number: EPA-HQ-OPP-2010-0058. Applicant: Marrone Bio Innovations Incorporated, 2121 Second Street, Suite B-107, Davis, CA 95618. Product Name: MBI-203 TGAI. Active Ingredient: Chromobacterium subtsugae strain PRAA4-1T at 100.00%. Proposed Classification/Use: Manufacturing-use product. (J. Kausch).

18. File Symbol: 84059-RN. Docket Number: EPA-HQ-OPP-2010-0058. Applicant: Marrone Bio Innovations Incorporated, 2121 Second Street, Suite B-107, Davis, CA 95618. Product Name: MBI-203 EP. Active Ingredient: Chromobacterium subtsugae strain PRAA4-1T at 94.50%. Proposed Classification/Use: Insecticide for use in the control or suppression of many foliar-feeding pests such as caterpillars, foliage-feeding coleopteran, aphids, whiteflies, and plant-sucking mites on ornamental plants, turf, and various edible crops. (J. Kausch).

19. File Symbol: 84059-RR. Docket Number: EPA-HQ-OPP-2010-0079. Applicant: Marrone Bio Innovations Incorporated, 2121 Second Street, Suite B-107, Davis, CA 95618. Product Name: MBI-005. Active Ingredient: Streptomyces acidiscabies strain RL-110T at 100%. Proposed Classification/Use: Manufacturing-use product. (A. Sibold).

20. File Symbol: 84888-E. Docket Number: EPA-HQ-OPP-2010-0090. Applicant: Technology Sciences Group Incorporated, 712 Fifth Street, Suite A, Davis, CA 95616 (on behalf of Agrium Advanced Technologies RP Incorporated, 10 Craig Street, Brantford, Ontario Canada N3R 7J1). Product Name: Nivalis. Active Ingredient: Typhula phacorrhiza strain 94671 at 4.00%. Proposed Classification/Use: Biofungicide for turf. (D. Greenway).

21. File Symbol: 84888-R. Docket Number: EPA-HQ-OPP-2010-0090. Applicant: Technology Sciences Group Incorporated, 712 Fifth Street, Suite A, Davis, CA 95616 (on behalf of Agrium Advanced Technologies RP Incorporated, 10 Craig Street, Brantford, Ontario Canada N3R 7J1). Product Name: Nivalis Technical. Active Ingredient: Typhula phacorrhiza strain 94671 at 4.00%. Proposed Classification/Use: Manufacturing-use product. (D. Greenway).

22. File Symbol: 86174-E. Docket Number: EPA-HQ-OPP-2010-0100. Applicant: SciReg Incorporated, 12733 Director’s Loop, Woodbridge, VA 22192 (on behalf of Bio-Ferm GmbH, Konrad Lorenz Strasse 20, A-3430, Tulln, Austria). Product Name: Aureobasidium pullulans strain DSM 14940 Technical. Active Ingredient: Aureobasidium pullulans strain DSM 14940 at 80%. Proposed Classification/Use: Manufacturing-use product. (S. Cerrelli).

23. File Symbol: 86174-G. Docket Numbers: EPA-HQ-OPP-2010-0100 and EPA-HQ-OPP-2010-0106. Applicant: SciReg Incorporated, 12733 Director’s Loop, Woodbridge, VA 22192 (on behalf of Bio-Ferm GmbH, Konrad Lorenz Strasse 20, A-3430, Tulln, Austria). Product Name: Botector. Active Ingredients: Aureobasidium pullulans strain DSM 14940 at 50% and Aureobasidium pullulans strain DSM 14941 at 50%. Proposed Classification/Use: Fungicide for agricultural, commercial, and residential use on citrus, grapes, pome fruits, stone fruits, and strawberries. (S. Cerrelli).

24. File Symbol: 86174-R. Docket Number: EPA-HQ-OPP-2010-0106. Applicant: SciReg Incorporated, 12733 Director’s Loop, Woodbridge, VA 22192 (on behalf of Bio-Ferm GmbH, Konrad Lorenz Strasse 20, A-3430, Tulln, Austria). Product Name: Aureobasidium pullulans strain DSM 14941 Technical. Active Ingredient: Aureobasidium pullulans strain DSM 14941 at 80%. Proposed Classification/Use: Manufacturing-use product. (S. Cerrelli).

25. File Symbol: 86174-U. Docket Numbers: EPA-HQ-OPP-2010-0100 and EPA-HQ-OPP-2010-0106. Applicant: SciReg Incorporated, 12733 Director’s Loop, Woodbridge, VA 22192 (on behalf of Bio-Ferm GmbH, Konrad Lorenz Strasse 20, A-3430, Tulln, Austria). Product Name: Blossom Protect. Active Ingredients: Aureobasidium pullulans strain DSM 14940 at 32.25% and Aureobasidium pullulans strain DSM 14941 at 32.25%. Proposed Classification/Use: Fungicide for agricultural, commercial, and residential use to prevent fire blight on pome fruits. (S. Cerrelli).

26. File Symbol: 86865-R. Docket Number: EPA-HQ-OPP-2010-0082. Applicant: Piedmont Animal Health, 204 Muirs Chapel Road, Suite 200, Greensboro, NC 27410. Product Name: Resultix(tm). Active Ingredient: Isopropyl Myristate at 50%. Proposed Classification/Use: Insecticide for use against ticks on cats and dogs. (C. Greene).

27. File Symbol: 80286-RT. Docket Number: EPA-HQ-OPP-2010-0040. Applicant: ISCA Technologies Incorporated, 1230 Spring Street, Riverside, CA 92507. Product Name: ISCA TuTa MP. Active Ingredient: (E,Z,Z)-3,8,11-Tetradecatrienyl Acetate at 96.31%. Proposed Classification/Use: Manufacturing-use product. (M. Adams).

28. File Symbol: 80286-RA. Docket Number: EPA-HQ-OPP-2010-0040. Applicant: ISCA Technologies Incorporated, 1230 Spring Street, Riverside, CA 92507. Product Name: SPLAT TuTa(tm). Active Ingredient: (E,Z,Z)-3,8,11-Tetradecatrienyl Acetate at 0.3%. Proposed Classification/Use: Straight-carbon-chain Lepidoptera pheromone (SCLP) for use against tomato leafminer on all crops and in non-crop areas. (M. Adams).

List of Subjects

Environmental protection, Pesticides and pests.

Dated: March 1, 2010.
Keith A. Matthews,
Acting Director, Biopesticides and Pollution Prevention Division, Office of Pesticide Programs.

[FR Doc. 2010-4835 Filed 3-9-10; 8:45 am]

BILLING CODE 6560-50-S